DEPARTMENT OF TRANSPORTATION

Federal Railroad Administration

[Docket Number FRA-2013-0019]

Petition for Waiver of Compliance

In accordance with Part 211 of Title 49 Code of Federal Regulations (CFR), this document provides the public notice that by a document dated March 6, 2014, the Old Augusta Railroad (OAR) petitioned the Federal Railroad Administration (FRA) for an amended waiver of compliance from certain provisions of the Federal hours-of-service laws contained at 49 U.S.C. Section 21103(a)(4). FRA assigned the petition Docket Number FRA-2013-0019.

In its petition, OAR seeks to amend its previously filed petition for relief from 49 U.S.C. Section 21103(a)(4), by changing one of the conditions of the waiver. FRA granted OAR's petition for a waiver in a July 30, 2013, letter. The waiver allows a train employee to initiate an on-duty period each day for 7 consecutive days followed by 72 hours off duty. Additionally, an employee may initiate an on-duty period for an eighth consecutive day followed by 72 hours off duty once per 30-day period, if all eight assignments do not infringe upon the time period of midnight to 6 a.m.

OAR seeks to amend its waiver by changing the conditions of the waiver to allow an eighth consecutive day followed by 72 hours off duty once per 30-day period, if all eight assignments do not infringe upon the time period of 10 p.m. to 5 a.m. OAR explains that its employees go on duty at 5 a.m. and changing the exclusionary time period for an eighth consecutive day, from midnight to 6 a.m. to 10 p.m. to 5 a.m., will allow better use of the waiver.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 16, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-09791 Filed 4-29-14; 8:45 am]

BILLING CODE 4910-06-P